DEPARTMENT OF VETERANS AFFAIRS

[OMB Control No. 2900-0029]

Agency Information Collection Activity: VA Form 26-6705, Offer to Purchase and Contract of Sale, VA Form 26-6705b, Credit Statement of Prospective Purchaser, and VA Form 26-6705d, Addendum to VA Form 26-6705 (VIRGINIA)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0029.”

FOR FURTHER INFORMATION CONTACT: Danny S. Green, (202) 421-1354 or email Danny.Green2@va.gov. Please refer to “OMB Control No. 2900-0029” in any correspondence.

SUPPLEMENTARY INFORMATION: Authority: 44 U.S.C. 3501-21.

Title: VA FORM 26-6705, OFFER TO PURCHASE AND CONTRACT OF SALE, VA FORM 26-6705b AND FANNIE MAE (FNMA) FORM 1003, UNIFORM RESIDENTIAL LOAN APPLICATION, CREDIT STATEMENT OF PROSPECTIVE PURCHASER, AND VA FORM 26-6705d, ADDENDUM TO VA FORM 26-6705 (VIRGINIA).

OMB Control Number: 2900-0029.

Type of Review: Extension of a currently approved collection.

Abstract: Under the authority of 38 U.S.C. 3720(a)(5) and (6) the Department of Veterans Affairs (VA) acquires properties for sale to the general public utilizing a private Service Provider. The Service Provider utilizes private listings and sales brokers to sell VA properties.

The Federal Register Notice with a 60-day comment period soliciting comments on this collection of information was published at 85 FR 81 on April 27, 2020, page 23438.

Affected Public: Individuals or Households.

Estimated Annual Burden: 17,458.

Estimated Average Burden Per Respondent: 20 minutes and 5 minutes (average 15 minutes between the three forms).

Frequency of Response: One time.

Estimated Number of Respondents: 53,500.

By direction of the Secretary.
Danny S. Green,
VA PRA Clearance Officer, Office of Quality, Performance and Risk, Department of Veterans Affairs.

[FR Doc. 2020-14536 Filed 7-6-20; 8:45 am]

BILLING CODE 8320-01-P